DEPARTMENT OF ENERGY

Federal Energy Regulatory Commission

[Docket No. RP00-460-002]

Total Peaking Services, L.L.C.; Notice of Compliance Filing

March 7, 2002.

Take notice that on March 1, 2001, Total Peaking Services, L.L.C., ( Total Peaking) tendered for filing as part of its FERC Gas Tariff, Original Volume No. 1, the following tariff sheets, with an effective date of August 1, 2001:

First Revised No. 65

First Revised No. 67

Second Revised No. 82

Substitute First Revised No. 86

First Revised No. 97

First Revised No. 98

Total Peaking states that the filing is being made in compliance with the Commission's Order on Order No. 637 Compliance Filing issued in this docket on June 4, 2001, and in response to the letter Order in this docket issued February 5, 2002.

Total Peaking represents that these sheets are consistent with the August 15, 2000 Compliance Filing that was accepted by the Commission in the June 4, 2001 Order. These sheets replace erroneous tariff sheets that were filed on November 21, 2001 inadvertently and rejected in the February 5, 2002 letter Order.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-5984 Filed 3-12-02; 8:45 am]

BILLING CODE 6717-01-P